SMALL BUSINESS ADMINISTRATION

[Disaster Declaration #11264 and #11265]

IOWA Disaster Number IA-00015

AGENCY: U.S. Small Business Administration.

ACTION: Amendment 4.

SUMMARY: This is an amendment of the Presidential declaration of a major disaster for the State of IOWA (FEMA-1763-DR), dated 05/27/2008.

Incident: Severe Storms, Tornadoes, and Flooding.

Incident Period: 05/25/2008 and continuing.

Effective Date: 06/20/2008.

Physical Loan Application Deadline Date: 07/28/2008.

EIDL Loan Application Deadline Date: 02/27/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of IOWA, dated 05/27/2008 is hereby amended to include the following areas as adversely affected by the disaster:

Primary counties: (Physical Damage and Economic Injury Loans): Lee, Wapello, Hancock, Kossuth, Madison, Marshall, Jasper, Mahaska, Mills, Monona, Chickasaw, Warren, Crawford,

Contiguous Counties: (Economic Injury Loans Only):

Illinois: Hancock.

Iowa: Appanoose, Audubon, Carroll, Davis, Emmet, Guthrie, Humboldt, Ida, Jefferson, Keokuk, Palo Alto, Pocahontas Sac, Van Buren, Woodbury.

Minnesota: Faribault, Martin.

Missouri: Clark.

Nebraska: Sarpy, Thurston.

All other information in the original declaration remains unchanged.

(Catalog of Federal Domestic Assistance Numbers 59002 and 59008)

James E. Rivera,
Acting Associate Administrator for Disaster Assistance.

[FR Doc. E8-15233 Filed 7-2-08; 8:45 am]

BILLING CODE 8025-01-P